FEDERAL COMMUNICATIONS COMMISSION

47 CFR Part 73

[DA 22-95; FRS 70458]

Radio Broadcasting Services; Various Locations

AGENCY: Federal Communications Commission.

ACTION: Final rule.

SUMMARY: This document amends the FM Table of Allotments, of the Commission's rules, by removing certain vacant FM allotment channels that were auctioned through our FM competitive bidding process or undergone FM noncommercial filing window, and are no longer considered vacant FM allotments. The FM allotments are currently authorized licensed stations. FM assignments for authorized stations and reserved facilities will be reflected solely in Media Bureau's Licensing Management System (LMS). These FM allotment channels have previously undergone notice and comment rulemaking. This action constitutes an editorial change in the FM Table of Allotments. Therefore, we find for good cause that further notice and comment are unnecessary.

DATES: Effective February 8, 2022.

FOR FURTHER INFORMATION CONTACT: Rolanda F. Smith, Media Bureau, (202) 418-2700.

SUPPLEMENTARY INFORMATION: This is a synopsis of the Commission's Order, adopted January 28, 2022 and released January 28, 2022. The full text of this Commission decision is available online at https://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

List of Subjects in 47 CFR Part 73

Radio, Radio broadcasting.

Federal Communications Commission.
Thomas Horan,
Chief of Staff, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336 and 339.

2. In § 73.202, amend table 1 to paragraph (b) as follows:

a. Remove the entry for “Waverly” under Alabama;

b. Remove the entries for “Bagdad,” “Peach Springs,” “Quartzsite,” “Rough Rock,” and “Somerton” under Arizona;

c. Remove the entries for “Dermott” and “Heber Springs” under Arkansas;

d. Remove the entries for “Barstow,” “Hemet,” “Lake Isabella,” “Shasta Lake,” “Sutter Creek,” “Westley,” and “Wofford Heights” under California;

e. Remove the entries for “Akron” and “Dove Creek” under Colorado;

f. Remove the entries for “Maysville” and “Tignall” under Georgia;

g. Remove the entry for “Kualapuu” under Hawaii;

h. Remove the entry for “McCall” under Idaho;

i. Remove the entry for “Terre Haute” under Indiana;

j. Remove the entry for “Perryville” under Kentucky;

k. Remove the entries for “Bastrop” and “Rosepine” under Louisiana;

l. Remove the entry for “Newark” under Maryland;

m. Remove the entries for “Baudette,” “Grand Portage,” and “Red Lake” under Minnesota;

n. Remove the entries for “Drew,” “Mound Bayou,” and “Summit” under Mississippi;

o. Remove the entries for “Columbia” and “Laurie” under Missouri;

p. Remove the entries for “Bozeman” and “Lima” under Montana;

q. Remove the entry for “Silver Springs” under Nevada;

r. Remove the entries for “Crownpoint,” “Roswell,” “Tohatchi,” and “Virden” under New Mexico;

s. Remove the entries for “Amherst,” “Livingston Manor,” “Rhinebeck,” and “Rosendale” under New York;

t. Remove the entry for “Dillsboro” under North Carolina;

u. Remove the entries for “Connerville,” “Hennessey,” and “Waukomie” under Oklahoma;

v. Remove the entries for “Altamont,” “Boardman,” “Dallas,” “Manzanita,” “Merrill,” “Moro,” “Prineville,” and “Waldport” under Oregon;

w. Remove the entry for “Eagle Butt” under South Dakota;

x. Remove the entries for “Annona,” “Austwell,” “Batesville,” “Big Spring,” “Carbon,” “Christine,” “Cotulla,” “Crosbyton,” “Cuney,” “Early,” “Encinal,” “Garwood,” “Goldwaithe,” “Guthrie,” “Harper,” “Hawley,” ” Hebbronville,” “Hico,” “Jacksonville,” “Llano,” “Longview,” “Matagorda,” “Meyersville,” “Midway,” “Moody,” “Moran,” “Muleshoe,” “Newcastle,” “Oakwood,” “Paducah,” “Port Isabel,” “Presidio,” “Quanah,” “Smiley,” “Spur;” and revise the entries for “Junction,” “Knox City,” “Leakey,” “Mason,” “Memphis,” “Palacios,” “Roaring Springs,” “Sanderson,” and “Turkey” under Texas;

y. Remove the entry for “Toquerville” under Utah;

z. Remove the entry for “Chincoteague” under Virginia;

aa. Remove the entry for “Dayton;” and revise the entry for “Oak Harbor ” under Washington;

bb. Remove the entry for “Baggs” under Wyoming.

The revisions read as follows:

§ 73.202 Table of Allotments.

* * * * *

(b) * * *

Table 1 to Paragraph (b)
U.S. States | Channel No.
* * * * *
TEXAS
* * * * *
Junction | 277C3
* * * * *
Knox City | 293A
Leakey | 275A, 299A
* * * * *
Mason | 239C2
* * * * *
Memphis | 292A
* * * * *
Palacios | 259C1
* * * * *
Roaring Springs | 227A
* * * * *
Sanderson | 274C1
* * * * *
Turkey | 221C2
* * * * *
WASHINGTON
* * * * *
Oak Harbor | * 233A
* * * * *

* * * * *

[FR Doc. 2022-02434 Filed 2-7-22; 8:45 am]

BILLING CODE 6712-01-P